DEPARTMENT OF TRANSPORTATION

Federal Aviation Administration

High Density Airports; Notice of Submission Deadline for International Slots for the Winter 2003/2004 Scheduling Season

AGENCY: Federal Aviation Administration (FAA), DOT.

ACTION: Notice of submission deadline.

SUMMARY: On October 1, 1999, the FAA amended the regulations governing takeoff and landing slots and slot allocation procedures at certain High Density Traffic Airports. One element of the final rule established that the deadline for submission of requests for international slots would be published in a Federal Register notice for each scheduling season. The purpose of the amendment is for the FAAA deadline for international slot requests to coincide with the International Air Transport Association (IATA) deadline for submission of international requests. For the Winter 2003/2004 Scheduling Season, the IATA submission deadline is May 18, 2003, which falls on a Sunday. Therefore, the FAA announces in this notice that the deadline for submitting requests for international slots for allocation under 14 CFR 93.217 is May 19, 2003.

DATES: Requests for international slots must be submitted no later than May 19, 2003.

ADDRESSES: Requests may be submitted by mail to Slot Administration Office, AGC-220, Office of the Chief Counsel, 800 Independence Avenue, SW., Washington, DC 20591; facsimile: 202-267-7277; ARINC: DCAYAXD; e-mail address: 7-AWA-slotadmin@faa.gov.

FOR FURTHER INFORMATION CONTACT: Lorelei Peter, Operations and Air Traffic Law Branch, Regulations Division, Office of the Chief Counsel, Federal Aviation Administration, 800 Independence Avenue, SW., Washington, DC 20591; telephone number 202-267-3134.

Issued on April 8, 2003, in Washington, DC.
James W. Whitlow,
Deputy Chief Counsel.

[FR Doc. 03-9184 Filed 4-14-03; 8:45 am]

BILLING CODE 4910-13-M